DEPARTMENT OF ENERGY

Federal Energy Regulatory Commission

[Docket No. RP01-397-002]

Great Lakes Gas Transmission Limited Partnership; Notice of Compliance Filing

October 22, 2001.

Take notice that on October 17, 2001, Great Lakes Gas Transmission Limited Partnership (Great Lakes) tendered for filing as part of its FERC Gas Tariff Second Revised Volume No. 1, the following tariff sheets, with an effective date of November 1, 2001:

Substitute Third Revised Sheet No. 8A

Substitute Tenth Revised Sheet No. 9

Substitute Second Revised Sheet No. 50A

Great Lakes states that these tariff sheets are being filed to (a) remove the “Third Party Charges” language relative to Off-System Capacity from proposed section 22.1 of Great Lakes' FERC Gas Tariff, Second Revised Volume No.1, as directed in the Commission's October 15, 2001 Order Accepting Tariff Sheets with Modification and Granting Waiver and (b) reflect a sheet effective date of November 1, 2001 as directed in the Commission's May 31, 2001 Order Accepting and Suspending Tariff Filing and Requesting Additional Information.

Any person desiring to protest said filing should file a protest with the Federal Energy Regulatory Commission, 888 First Street, NE, Washington, DC 20426, in accordance with section 385.211 of the Commission's Rules and Regulations. All such protests must be filed in accordance with section 154.210 of the Commission's Regulations. Protests will be considered by the Commission in determining the appropriate action to be taken, but will not serve to make protestants parties to the proceedings. Copies of this filing are on file with the Commission and are available for public inspection. This filing may also be viewed on the web at http://www.ferc.gov using the “RIMS” link, select “Docket#” and follow the instructions (call 202-208-2222 for assistance). Comments, protests and interventions may be filed electronically via the Internet in lieu of paper. See, 18 CFR 385.2001(a)(1)(iii) and the instructions on the Commission's web site under the “e-Filing” link.

David P. Boergers,
Secretary.

[FR Doc. 01-26977 Filed 10-25-01; 8:45 am]

BILLING CODE 6717-01-P